DEPARTMENT OF ENERGY

Federal Energy Regulatory Commission

Combined Notice of Filings

Take notice that the Commission has received the following Natural Gas Pipeline Rate and Refund Report filings:

Filings in Existing Proceedings

Docket Numbers: RP20-1042-002.

Applicants: Northern Natural Gas Company.

Description: Compliance filing: 20220428 2021 Operational Purchase and Sales Report to be effective N/A.

Filed Date: 4/28/22.

Accession Number: 20220428-5353.

Comment Date: 5 p.m. ET 5/10/22.

Any person desiring to protest in any of the above proceedings must file in accordance with Rule 211 of the Commission's Regulations (18 CFR 385.211) on or before 5:00 p.m. Eastern time on the specified comment date.

Filings Instituting Proceedings

Docket Numbers: RP22-855-000.

Applicants: El Paso Natural Gas Company, L.L.C.

Description: § 4(d) Rate Filing: Negotiated Rate Agreement Update (Conoco May 22) to be effective 5/1/2022.

Filed Date: 4/28/22.

Accession Number: 20220428-5186.

Comment Date: 5 p.m. ET 5/10/22.

Docket Numbers: RP22-856-000.

Applicants: East Cheyenne Gas Storage, LLC.

Description: § 4(d) Rate Filing: ECGS 2022-04-28 First Revised Volume No. 1 Baseline to be effective 5/1/2022.

Filed Date: 4/28/22.

Accession Number: 20220428-5200.

Comment Date: 5 p.m. ET 5/10/22.

Docket Numbers: RP22-857-000.

Applicants: NEXUS Gas Transmission, LLC.

Description: § 4(d) Rate Filing: Negotiated Rates—Various Releases eff 5-1-2022 to be effective 5/1/2022.

Filed Date: 4/28/22.

Accession Number: 20220428-5205.

Comment Date: 5 p.m. ET 5/10/22.

Docket Numbers: RP22-858-000.

Applicants: ANR Pipeline Company.

Description: Compliance filing: Operational Purchases and Sales Report 2022 to be effective N/A.

Filed Date: 4/28/22.

Accession Number: 20220428-5240.

Comment Date: 5 p.m. ET 5/10/22.

Docket Numbers: RP22-859-000.

Applicants: Sabal Trail Transmission, LLC.

Description: § 4(d) Rate Filing: 2022 TUP/SBA Annual Filing to be effective 6/1/2022.

Filed Date: 4/28/22.

Accession Number: 20220428-5242.

Comment Date: 5 p.m. ET 5/10/22.

Docket Numbers: RP22-860-000.

Applicants: Northern Border Pipeline Company.

Description: § 4(d) Rate Filing: Negotiated Rate Agreement—Sequest TL371F/101324 to be effective 5/1/2022.

Filed Date: 4/28/22.

Accession Number: 20220428-5272.

Comment Date: 5 p.m. ET 5/10/22.

Docket Numbers: RP22-861-000.

Applicants: Transcontinental Gas Pipe Line Company, LLC.

Description: § 4(d) Rate Filing: Negotiated Rates—Cherokee AGL—Replacement Shippers—May 2022 to be effective 5/1/2022.

Filed Date: 4/29/22.

Accession Number: 20220429-5000.

Comment Date: 5 p.m. ET 5/11/22.

Docket Numbers: RP22-862-000.

Applicants: Tennessee Gas Pipeline Company, L.L.C.

Description: § 4(d) Rate Filing: Volume No. 2—Stagecoach Energy Solutions LLC SP39122 to be effective 5/1/2022.

Filed Date: 4/29/22.

Accession Number: 20220429-5028.

Comment Date: 5 p.m. ET 5/11/22.

Docket Numbers: RP22-863-000.

Applicants: Venice Gathering System, L.L.C.

Description: § 4(d) Rate Filing: VGS Section 11.3 Filing to be effective 6/1/2022.

Filed Date: 4/29/22.

Accession Number: 20220429-5031.

Comment Date: 5 p.m. ET 5/11/22.

Docket Numbers: RP22-864-000.

Applicants: ANR Pipeline Company.

Description: § 4(d) Rate Filing: Cashout Surcharge 2022 to be effective 6/1/2022.

Filed Date: 4/29/22.

Accession Number: 20220429-5032.

Comment Date: 5 p.m. ET 5/11/22.

Docket Numbers: RP22-865-000.

Applicants: Iroquois Gas Transmission System, L.P.

Description: § 4(d) Rate Filing: 4.29.22 Negotiated Rates—Shell Energy North America (U.S.), L.P. R-2170-24 to be effective 5/1/2022.

Filed Date: 4/29/22.

Accession Number: 20220429-5034.

Comment Date: 5 p.m. ET 5/11/22.

Docket Numbers: RP22-866-000.

Applicants: ETC Tiger Pipeline, LLC.

Description: § 4(d) Rate Filing: Fuel Filing on 4-29-22 to be effective 6/1/2022.

Filed Date: 4/29/22.

Accession Number: 20220429-5040.

Comment Date: 5 p.m. ET 5/11/22.

Docket Numbers: RP22-867-000.

Applicants: Fayetteville Express Pipeline LLC.

Description: Compliance filing: Fuel Filing on 4-29-22 to be effective N/A.

Filed Date: 4/29/22.

Accession Number: 20220429-5042.

Comment Date: 5 p.m. ET 5/11/22.

Docket Numbers: RP22-868-000.

Applicants: Eastern Gas Transmission and Storage, Inc.

Description: § 4(d) Rate Filing: EGTS—April 29, 2022 MCS Negotiated Rate Agreements to be effective 5/1/2022.

Filed Date: 4/29/22.

Accession Number: 20220429-5043.

Comment Date: 5 p.m. ET 5/11/22.

Docket Numbers: RP22-869-000.

Applicants: Carolina Gas Transmission, LLC.

Description: § 4(d) Rate Filing: CGT—April 29, 2022 Administrative Change to be effective 6/1/2022.

Filed Date: 4/29/22.

Accession Number: 20220429-5044.

Comment Date: 5 p.m. ET 5/11/22.

Docket Numbers: RP22-870-000.

Applicants: Rockies Express Pipeline LLC.

Description: § 4(d) Rate Filing: REX 2022-04-29 Negotiated Rate Agreement to be effective 5/1/2022.

Filed Date: 4/29/22.

Accession Number: 20220429-5045.

Comment Date: 5 p.m. ET 5/11/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2022.
Debbie-Anne A. Reese,
Deputy Secretary.

[FR Doc. 2022-09654 Filed 5-4-22; 8:45 am]

BILLING CODE 6717-01-P